DEPARTMENT OF DEFENSE

Department of the Army

Preparation of an Environmental Impact Statement (EIS) for Resumption of Year-Round Live-Fire Training at Eagle River Flats (ERF), Fort Richardson, AK

AGENCY: Department of the Army, DoD.

ACTION: Notice of intent.

SUMMARY: The Army intends to prepare an EIS to assess the potential environmental impacts associated with the resumption of year-round live-fire weapons training at Fort Richardson, including use of direct and indirect fire weapons systems. The EIS will analyze the proposed action's impacts upon the natural and manmade environment.

DATES: Written comments identifying potential impacts to be analyzed in the EIS must be received not later than September 19, 2007.

ADDRESSES: Written comments should be forwarded to Ms. Carrie McEnteer, Directorate of Public Works, Attention: IMPA-FWA-PWE (C. McEnteer), 1060 Gaffney Road #4500, Fort Wainwright, AK 99703-4500; fax: (907) 353-9867; e-mail: carrie.mcenteer@us.army.mil.

FOR FURTHER INFORMATION CONTACT: Please contact Mr. Robert Hall, Public Affairs Office, 724 Postal Service Loop Road #6000, Building 600, Room B349, Fort Richardson, AK 99505-6000; telephone: (907) 384-2546, e-mail: robert.hall33@us.army.mil.

SUPPLEMENTARY INFORMATION: Fort Richardson has undergone extensive transformation in recent years, including stationing of the 4th Brigade Combat Team (Airborne); 25th Infantry Division (Light); and temporary stationing of the 1st Stryker Brigade Combat Team, 25th Infantry Division. The proposed action would allow units to train year round at Fort Richardson and receive necessary weapons proficiency training. Weapons proficiency is a critical component of combat, and training must include live-fire exercises using both direct and indirect fire weapons. Indirect fire refers to the use of weapons such as artillery and mortars to fire at targets from beyond line-of-sight distances or from positions where line-of-sight is not possible. Direct fire, in contrast, is the use of small arms, machine guns, rockets, or missiles to fire at targets that can be observed or are within the line-of-sight.

The ERF Impact Area is the only impact area on Fort Richardson which can be used for live-fire artillery and mortar training. The Army has utilized ERF for weapons training since the 1940s and a wide range of direct and indirect fire weapons have been used at this site, including mortars, howitzers, missiles, rockets, and small arms. Currently, ERF can only be used for live-fire weapons training during winter months when wetland sediments are frozen, which requires Fort Richardson units to travel to Fort Wainwright and Donnelly Training Area to complete training requirements during the summer. Firing restrictions were imposed in 1991 following completion of an environmental assessment that established a link between firing munitions containing white phosphorus and waterfowl mortality at ERF. The intent of limiting weapons firing to winter months was two-fold; first, to reduce possible disturbance and redistribution of white phosphorus within wetlands in order to decrease the chance for additional waterfowl mortality; and, second, to mitigate possible noise impact on ERF until such time as the Army properly evaluated the effect on resident wildlife.

Following the discovery that white phosphorus was the cause of waterfowl mortality in 1991, Fort Richardson (to include the ERF ordnance impact) was listed on the National Priorities List (NPL) under the Comprehensive Environmental Response, Compensation, and Liability Act (CERCLA). A comprehensive remedial investigation was undertaken as part of the CERCLA process and white phosphorus was determined to be the only contaminant of concern at ERF. In 1998, a CERCLA Record of Decision that outlined the process for cleanup of white phosphorus at ERF was signed by the U.S. Army Alaska, U.S. Environmental Protection Agency, and the State of Alaska. Remedial actions at ERF have resulted in successful treatment of 99% of the wetlands and reduced waterfowl mortality to acceptable levels in accordance with the Record of Decision.

Environmental conditions have significantly improved at ERF since 1991, and the Army is proposing to reassess potential impacts at ERF from year-round use. U.S. Army Alaska proposes to remove existing winter only live-fire restrictions and return to year-round weapons training in order to fulfill current training needs at Fort Richardson. Both direct and indirect fire weapons would be used. Use of white phosphorus containing munitions in ERF would still be banned under the proposed action.

Potential impacts resulting from the proposed action include possible disturbance of white phosphorus lying below the surface in contaminated areas, accumulation of munitions residues, increased noise, and physical disturbance of natural resources. The environmental components to be evaluated in the EIS include environmental health and safety, wildlife and fisheries, soil, water resources, cultural resources, noise, air quality, vegetation, and socioeconomics. Analysis of additional environmental components may be added based upon input from agency and tribal consultations and public scoping.

A range of reasonable alternatives, including an alternative considering “No Action” will be developed and analyzed in the EIS. The No Action Alternative represents the status quo with respect to live-fire training at ERF. Alternatives to be considered include varying the degree, timing, and location of weapons training at Fort Richardson and will take into consideration environmental components such as migratory bird and beluga whale migrations. Other alternatives reasonably capable of meeting the project purpose and need and criteria that may be raised during the scoping process will be considered.

Scoping and Public Comment: Federally-recognized Indian Tribes, Native Alaskans, Native Hawaiian groups, Federal, State, and local agencies, organizations, and interested members of the public are invited to participate in the scoping process for the completion of this EIS by participating in scoping meetings or submitting written comments. The scoping process will help identify possible alternatives, potential environmental impacts, means to mitigate adverse environmental impacts, and key issues of concern to be analyzed in the EIS. Scoping meetings will be held in Anchorage, Alaska and surrounding areas. Notification of the times and locations for the scoping meetings will be published in local newspapers.

Dated: August 5, 2007.
Addison D. Davis, IV,
Deputy Assistant Secretary of the Army (Environment, Safety, and Occupational Health).

[FR Doc. 07-4038 Filed 8-18-07; 8:45 am]

BILLING CODE 3710-08-M